DEPARTMENT OF TRANSPORTATION

Federal Aviation Administration

14 CFR Part 97

[Docket No. 31046; Amdt. No. 3669]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 7, 2015. The compliance date for each SIAP, associated Takeoff Minimums, and ODP is specified in the amendatory provisions.

The incorporation by reference of certain publications listed in the regulations is approved by the Director of the Federal Register as of December 7, 2015.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFRs and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on November 6, 2015.
John Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 10 DECEMBER 2015

Fairbanks, AK, Fairbanks Intl, ILS OR LOC RWY 20R, ILS RWY 20R (SA CAT I), ILS RWY 20R (SA CAT II), Amdt 25

Kenai, AK, Kenai Muni, ILS OR LOC RWY 20R, Amdt 5

Kenai, AK, Kenai Muni, RNAV (GPS) RWY 2L, Amdt 3

Kenai, AK, Kenai Muni, RNAV (GPS) RWY 20R, Amdt 3

Kenai, AK, Kenai Muni, Takeoff Minimums and Obstacle DP, Amdt 2

Kenai, AK, Kenai Muni, VOR RWY 20R, Amdt 20

Kenai, AK, Kenai Muni, VOR/DME RWY 2L, Amdt 9

McGrath, AK, Mc Grath, VOR/DME OR TACAN RWY 16, Amdt 1A, CANCELED

Sheridan, AR, Sheridan Muni, RNAV (GPS) RWY 19, Orig

Sheridan, AR, Sheridan Muni, Takeoff Minimums and Obstacle DP, Orig

Nogales, AZ, Nogales Intl, VOR OR GPS-A, Amdt 3C, CANCELED

Chico, CA, Chico Muni, VOR/DME RWY 13L, Amdt 7C, CANCELED

Daggett, CA, Barstow-Daggett, RNAV (GPS) RWY 26, Amdt 3

Ontario, CA, Ontario Intl, VOR/DME RWY 8R, Orig-A, CANCELED

Bridgeport, CT, Igor I Sikorsky Memorial, VOR RWY 6, Amdt 21, CANCELED

Bridgeport, CT, Igor I Sikorsky Memorial, VOR RWY 29, Amdt 2, CANCELED

Washington, DC, Manassas Rgnl/Harry P Davis Field, RNAV (GPS) RWY 34L, Orig

Sarasota/Bradenton, FL, Sarasota/Bradenton Intl, VOR RWY 32, Amdt 10A, CANCELED

St Petersburg-Clearwater, FL, St Pete-Clearwater Intl, VOR/DME RWY 18L, Amdt 1C, CANCELED

Tallahassee, FL, Tallahassee Intl, RADAR-1, Amdt 6

Clarion, IA, Clarion Muni, RNAV (GPS) RWY 14, Amdt 1

Orange City, IA, Orange City Muni, NDB OR GPS RWY 34, Amdt 3A, CANCELED

Orange City, IA, Orange City Muni, RNAV (GPS) RWY 16, Orig

Orange City, IA, Orange City Muni, RNAV (GPS) RWY 34, Orig

Boise, ID, Boise Air Terminal/Gowen Fld, ILS OR LOC RWY 10R, ILS RWY 10R (SA CAT I), ILS RWY 10R (CAT II), ILS RWY 10R (CAT III), Amdt 12

Rochelle, IL, Rochelle Muni Airport-Koritz Field, RNAV (GPS) RWY 7, Amdt 2

Rochelle, IL, Rochelle Muni Airport-Koritz Field, RNAV (GPS) RWY 25, Amdt 2

Fort Wayne, IN, Smith Field, RNAV (GPS) RWY 23, Amdt 1

Fort Wayne, IN, Smith Field, RNAV (GPS) RWY 31, Amdt 1

Independence, KS, Independence Muni, NDB RWY 35, Orig-B, CANCELED

Wakeeney, KS, Trego Wakeeney, RNAV (GPS)-A, Orig

Wakeeney, KS, Trego Wakeeney, RNAV (GPS)-B, Orig

Wakeeney, KS, Trego Wakeeney, Takeoff Minimums and Obstacle DP, Orig

Richmond, KY, Central Kentucky Rgnl, RNAV (GPS) RWY 18, Amdt 1B

Richmond, KY, Central Kentucky Rgnl, RNAV (GPS) RWY 36, Amdt 2

Vidalia, LA, Concordia Parish, RNAV (GPS) RWY 14, Orig

Vidalia, LA, Concordia Parish, RNAV (GPS) RWY 32, Orig

Vidalia, LA, Concordia Parish, Takeoff Minimums and Obstacle DP, Orig

Boston, MA, General Edward Lawrence Logan Intl, VOR/DME RWY 15R, Amdt 2D, CANCELED

Boston, MA, General Edward Lawrence Logan Intl, VOR/DME RWY 27, Amdt 2E, CANCELED

Boston, MA, General Edward Lawrence Logan Intl, VOR/DME RWY 33L, Amdt 2F, CANCELED

Nantucket, MA, Nantucket Memorial, NDB RWY 24, Amdt 11B, CANCELED

Baltimore, MD, Baltimore/Washington Intl Thurgood Marshall, VOR/DME RWY 15L, Amdt 2A, CANCELED

Portland, ME, Portland Intl Jetport, ILS OR LOC RWY 29, ILS RWY 29 (SA CAT I), ILS RWY 29 (SA CAT II), Amdt 4

Portland, ME, Portland Intl Jetport, RNAV (GPS) RWY 36, Amdt 2

Gaylord, MI, Gaylord Rgnl, NDB RWY 9, Amdt 13A, CANCELED

Hart/Shelby, MI, Oceana County, RNAV (GPS) RWY 9, Orig

Hart/Shelby, MI, Oceana County, RNAV (GPS) RWY 27, Orig

Hart/Shelby, MI, Oceana County, Takeoff Minimums and Obstacle DP, Orig

Jackson, MI, Jackson County-Reynolds Field, NDB RWY 24, Amdt 14, CANCELED

Traverse City, MI, Cherry Capital, NDB RWY 28, Amdt 11, CANCELED

Brainerd, MN, Brainerd Lakes Rgnl, NDB RWY 23, Amdt 6, CANCELED

Owatonna, MN, Owatonna Degner Rgnl, ILS OR LOC RWY 30, Amdt 3

Owatonna, MN, Owatonna Degner Rgnl, RNAV (GPS) RWY 30, Amdt 1

Kansas City, MO, Charles B. Wheeler Downtown, NDB RWY 19, Amdt 18A, CANCELED

Kansas City, MO, Charles B. Wheeler Downtown, VOR RWY 3, Amdt 19A, CANCELED

Kansas City, MO, Charles B. Wheeler Downtown, VOR RWY 19, Amdt 20A, CANCELED

Kansas City, MO, Charles B. Wheeler Downtown, VOR RWY 21, Amdt 14B, CANCELED

Springfield, MO, Downtown, RNAV (GPS)-A, Orig

Springfield, MO, Downtown, RNAV (GPS)-B, Orig

Springfield, MO, Downtown, Takeoff Minimums and Obstacle DP, Orig

Springfield, MO, Springfield-Branson National, ILS OR LOC RWY 2, Amdt 19

Pascagoula, MS, Trent Lott Intl, ILS OR LOC RWY 17, Amdt 3

Pascagoula, MS, Trent Lott Intl, RNAV (GPS) RWY 17, Amdt 2

Pascagoula, MS, Trent Lott Intl, RNAV (GPS) RWY 35, Amdt 1

Dillon, MT, Dillon, RNAV (GPS) RWY 35, Orig

Miles City, MT, Frank Wiley Field, VOR/DME RWY 4, Orig-B, CANCELED

Andrews, NC, Western Carolina Rgnl, RNAV (GPS) RWY 8, Amdt 1

Asheville, NC, Asheville Rgnl, ILS OR LOC RWY 16, Amdt 3B, CANCELED

Asheville, NC, Asheville Rgnl, ILS OR LOC RWY 34, Amdt 23H, CANCELED

Asheville, NC, Asheville Rgnl, ILS OR LOC RWY 35, Orig

Asheville, NC, Asheville Rgnl, RNAV (GPS) RWY 16, Amdt 1, CANCELED

Asheville, NC, Asheville Rgnl, RNAV (GPS) RWY 17, Orig

Asheville, NC, Asheville Rgnl, RNAV (GPS) RWY 34, Amdt 1, CANCELED

Asheville, NC, Asheville Rgnl, RNAV (GPS) RWY 35, Orig

Williston, ND, Sloulin Fld Intl, VOR/DME RWY 29, Amdt 4, CANCELED

Columbus, NE., Columbus Muni, VOR/DME RWY 32, Amdt 3B, CANCELED

Kearney, NE., Kearney Rgnl, NDB RWY 36, Amdt 5, CANCELED

Lincoln, NE., Lincoln, ILS OR LOC RWY 18, Amdt 7B

Lincoln, NE., Lincoln, ILS OR LOC RWY 36, Amdt 11I

Lincoln, NE., Lincoln, RNAV (GPS) RWY 14, Amdt 1A

Lincoln, NE., Lincoln, RNAV (GPS) RWY 17, Orig

Lincoln, NE., Lincoln, RNAV (GPS) RWY 18, Amdt 1B

Lincoln, NE., Lincoln, RNAV (GPS) RWY 32, Orig-A

Lincoln, NE., Lincoln, RNAV (GPS) RWY 35, Orig

Lincoln, NE., Lincoln, RNAV (GPS) RWY 36, Amdt 1C

Albuquerque, NM, Albuquerque Intl Sunport, ILS OR LOC RWY 3, Amdt 3

Albuquerque, NM, Albuquerque Intl Sunport, ILS OR LOC RWY 8, Amdt 6

Albuquerque, NM, Albuquerque Intl Sunport, RNAV (GPS) Y RWY 3, Amdt 1

Albuquerque, NM, Albuquerque Intl Sunport, RNAV (RNP) Z RWY 3, Amdt 1A

Albuquerque, NM, Albuquerque Intl Sunport, RNAV (RNP) Z RWY 8, Amdt 1A

Hobbs, NM, Lea County Rgnl, VOR OR TACAN RWY 3, Amdt 21A, CANCELED

Albany, NY, Albany Intl, Takeoff Minimums and Obstacle DP, Amdt 13

Monticello, NY, Sullivan County Intl, NDB RWY 15, Amdt 7B, CANCELED

New York, NY, Long Island Mac Arthur, ILS OR LOC RWY 6, ILS RWY 6 (SA CAT I), ILS RWY 6 (SA CAT II), Amdt 25

New York, NY, Long Island Mac Arthur, RNAV (GPS) RWY 6, Amdt 2

New York, NY, Long Island Mac Arthur, RNAV (GPS) RWY 15R, Amdt 1

New York, NY, Long Island Mac Arthur, RNAV (GPS) RWY 24, Amdt 2

New York, NY, Long Island Mac Arthur, RNAV (GPS) RWY 33L, Amdt 1

Rome, NY, Griffiss Intl, VOR/DME RWY 33, Orig-A, CANCELED

Cincinnati, OH, Cincinnati Muni Airport Lunken Field, NDB RWY 21L, Amdt 17B, CANCELED

Bartlesville, OK, Bartlesville Muni, VOR RWY 17, Amdt 11, CANCELED

Corvallis, OR, Corvallis Muni, NDB RWY 17, Amdt 2A, CANCELED

Providence, RI, Theodore Francis Green State, ILS OR LOC RWY 34, Amdt 12

Providence, RI, Theodore Francis Green State, RNAV (GPS) RWY 34, Amdt 2

Greenwood, SC, Greenwood County, VOR RWY 27, Amdt 12B, CANCELED

Mitchell, SD, Mitchell Muni, ILS OR LOC RWY 31, Orig-B

Mitchell, SD, Mitchell Muni, RNAV (GPS) RWY 13, Orig-A

Mitchell, SD, Mitchell Muni, RNAV (GPS) RWY 18, Orig

Mitchell, SD, Mitchell Muni, RNAV (GPS) RWY 31, Orig-A

Mitchell, SD, Mitchell Muni, RNAV (GPS) RWY 36, Orig

Mitchell, SD, Mitchell Muni, Takeoff Minimums and Obstacle DP, Amdt 1A

Mitchell, SD, Mitchell Muni, VOR RWY 13, Amdt 11A

Mitchell, SD, Mitchell Muni, VOR RWY 31, Amdt 5A

Watertown, SD, Watertown Rgnl, NDB RWY 35, Amdt 9, CANCELED

Vermillion, SD, Harold Davidson Field, RNAV (GPS) RWY 12, Orig

Vermillion, SD, Harold Davidson Field, RNAV (GPS) RWY 30, Amdt 2

Yankton, SD, Chan Gurney Muni, NDB RWY 31, Amdt 3A, CANCELED

Centerville, TN, Centerville Muni, RNAV (GPS) RWY 2, Orig

Centerville, TN, Centerville Muni, RNAV (GPS) RWY 20, Orig

Centerville, TN, Centerville Muni, Takeoff Minimums and Obstacle DP, Amdt 1

Dickson, TN, Dickson Muni, RNAV (GPS) RWY 17, Amdt 1B

Abilene, TX, Abilene Rgnl, NDB RWY 35R, Amdt 5D, CANCELED

Dallas-Fort Worth, TX, Dallas/Fort Worth Intl, VOR RWY 13R, Amdt 1C, CANCELED

Edna, TX, Jackson County, RNAV (GPS)-A, Orig

Edna, TX, Jackson County, RNAV (GPS)-B, Orig

Edna, TX, Jackson County, Takeoff Minimums and Obstacle DP, Orig

Georgetown, TX, Georgetown Muni, RNAV (GPS) RWY 18, Amdt 1

Georgetown, TX, Georgetown Muni, RNAV (GPS) RWY 36, Amdt 1

Houston, TX, William P Hobby, ILS OR LOC RWY 4, ILS RWY 4 (SA CAT I), ILS RWY 4 (CAT II), ILS RWY 4 (CAT III), Amdt 43

Houston, TX, William P Hobby, RNAV (GPS) RWY 4, Amdt 3

Mc Allen, TX, Mc Allen Miller Intl, ILS OR LOC RWY 14, Amdt 9

Mc Allen, TX, Mc Allen Miller Intl, ILS OR LOC RWY 32, Amdt 1

Mc Allen, TX, Mc Allen Miller Intl, RNAV (GPS) RWY 14, Amdt 1

Mc Allen, TX, Mc Allen Miller Intl, RNAV (GPS) RWY 32, Amdt 2

Mc Allen, TX, Mc Allen Miller Intl, Takeoff Minimums and Obstacle DP, Amdt 2

Mc Allen, TX, Mc Allen Miller Intl, VOR RWY 14, Amdt 16

Mc Allen, TX, Mc Allen Miller Intl, VOR RWY 32, Amdt 2

Odessa, TX, Odessa-Schlemeyer Field, NDB RWY 20, Amdt 5, CANCELED

Newport News, VA, Newport News/Williamsburg Intl, NDB RWY 2, Amdt 6A, CANCELED

Everett, WA, Snohomish County (Paine Fld), Takeoff Minimums and Obstacle DP, Amdt 3

Shelton, WA, Sanderson Field, GPS RWY 5, Amdt 1B, CANCELED

Shelton, WA, Sanderson Field, RNAV (GPS) RWY 5, Orig

Shelton, WA, Sanderson Field, RNAV (GPS) RWY 23, Amdt 1

Appleton, WI, Appleton Intl, VOR/DME RWY 3, Amdt 8G, CANCELED

Appleton, WI, Appleton Intl, VOR/DME RWY 21, Amdt 1B, CANCELED

Cable, WI, Cable Union, GPS RWY 34, Orig, CANCELED

Cable, WI, Cable Union, RNAV (GPS) RWY 35, Orig

Cable, WI, Cable Union, Takeoff Minimums and Obstacle DP, Amdt 5A

Eau Claire, WI, Chippewa Valley Rgnl, NDB RWY 22, Amdt 7, CANCELED

Middleton, WI, Middleton Muni—Morey Field, VOR RWY 10, Amdt 1B, CANCELED

Tomah, WI, Bloyer Field, RNAV (GPS) RWY 7, Orig

Tomah, WI, Bloyer Field, RNAV (GPS) RWY 25, Orig

Tomah, WI, Bloyer Field, Takeoff Minimums and Obstacle DP, Orig

Charleston, WV, Yeager, ILS OR LOC RWY 5, Amdt 7, CANCELED

Charleston, WV, Yeager, LOC RWY 5, Orig

Charleston, WV, Yeager, RNAV (GPS) Y RWY 5, Amdt 2

Charleston, WV, Yeager, RNAV (RNP) Z RWY 5, Amdt 1

[FR Doc. 2015-30730 Filed 12-4-15; 8:45 am]

BILLING CODE 4910-13-P